DEPARTMENT OF COMMERCE

International Trade Administration

[A-570-853]

Bulk Aspirin From the People's Republic of China: Amended Notice of Court Decision and Suspension of Liquidation

AGENCY: Import Administration, International Trade Administration, Department of Commerce.

SUMMARY: On August 24, 2004, the United States Court of International Trade issued an amendment to its order, clarifying a June 29, 2004, decision regarding liquidation of entries of bulk aspirin from the People's Republic of China. Consistent with the decision of the United States Court of Appeals for the Federal Circuit in Timken Co. v. United States, 893 F.2nd 337 (Fed. Cir. 1990) (“Timken”), the Department is notifying the public of the Court's amendment.

DATES: Effective October 22, 2004.

FOR FURTHER INFORMATION CONTACT: Scott Holland, Import Administration, International Trade Administration, U.S. Department of Commerce, 14th Street and Constitution Avenue, NW., Washington, DC 20230; telephone: (202) 482-1279.

SUPPLEMENTARY INFORMATION:

Background

On June 29, 2004, the United States Court of International Trade (“CIT”) issued its decision to invalidate certain sets of liquidation instructions issued by the Department of Commerce (“the Department”) in the antidumping proceeding covering entries of bulk aspirin from the People's Republic of China (“PRC”). See Jilin Henghe Pharmaceutical Co. and Jilin Pharmaceutical USA v. United States, Consol. Court No. 04-00151, Slip. Op. 04-77 (CIT 2004) (“Jilin Henghe”).

Pursuant to Timken, on July 9, 2004, the Department published a notice of the CIT's decision in the Federal Register. See Bulk Aspirin from the People's Republic of China: Notice of Court Decision and Suspension of Liquidation, 69 FR 41458 (July 9, 2004).

On August 24, 2004, the CIT issued an amendment to its order to clarify that entries of bulk aspirin that (1) were manufactured and exported to the United States by Jilin Henghe Pharmaceutical Co. Ltd. (“Jilin”) and imported by Jilin Pharmaceutical USA (“Jilin USA”); and (2) were entered, or withdrawn from warehouse, for consumption during the time period of July 1, 2002, through September 29, 2002, or entered pursuant to Customs number D09-0929517-8, shall be liquidated in accordance with the Court's decision in Rhodia Inc. v. United States, 240 F. Supp. 2d 1247 (CIT 2002).

Timken Notice

In its decision in Timken, the Federal Circuit held that, pursuant to section 516A(c)(1) and (e) of the Tariff Act of 1930 (“the Act”), the Department must publish notice of a decision of the CIT which is not in harmony with the Department's determination. The CIT's decision in Jilin Henghe was not in harmony with the Department's Notice of Amended Final Determination and Amended Order Pursuant to Final Court Decision: Bulk Aspirin from the People's Republic of China, 68 FR 75208 (December 30, 2003), Notice of Amended Final Results of Antidumping Duty Administrative Review: Bulk Aspirin from the People's Republic of China, 68 FR 12036 (March 13, 2003), or Notice of Amended Final Results of Antidumping Duty Administrative Review: Bulk Aspirin from the People's Republic of China, 68 FR 54890 (September 19, 2003). Therefore, publication of this notice fulfills the statutory obligation.

Suspension of Liquidation

This notice will serve to continue the suspension of liquidation pending a final decision by the Federal Circuit. The Department will instruct Customs and Border Protection to continue to suspend entries of bulk aspirin from the PRC that: (1) Were produced and exported by Jilin, and imported by Jilin USA; (2) were entered, or withdrawn from warehouse, for consumption from July 1, 2002, through September 29, 2002, or entered pursuant to Customs number D09-0929517-8. The Department will issue liquidation instructions covering these entries when there is a final decision by the Federal Circuit.

Dated: October 18, 2004.
James J. Jochum,
Assistant Secretary for Import Administration.

[FR Doc. E4-2803 Filed 10-21-04; 8:45 am]

BILLING CODE 3510-DS-P